DEPARTMENT OF ENERGY

Federal Energy Regulatory Commission

Combined Notice of Filings #1

Take notice that the Commission received the following electric rate filings:

Docket Numbers: ER13-1053-001.

Applicants: Switch Energy LLC.

Description: Notice in Change in Status of Switch Energy LLC.

Filed Date: 10/1/15.

Accession Number: 20151001-5432.

Comments Due: 5 p.m. ET 10/22/15.

Docket Numbers: ER15-2534-000.

Applicants: Saddleback Ridge Wind, LLC.

Description: Supplement to August 26, 2015 Saddleback Ridge Wind, LLC tariff filing.

Filed Date: 10/1/15.

Accession Number: 20151001-5411.

Comments Due: 5 p.m. ET 10/22/15.

Docket Numbers: ER15-2705-000.

Applicants: Southwest Power Pool, Inc.

Description: Report Filing: Seams Transmission Projects-Re-Submission of Transmittal Letter in ER15-2705 to be effective N/A.

Filed Date: 10/2/15.

Accession Number: 20151002-5080.

Comments Due: 5 p.m. ET 10/23/15.

Docket Numbers: ER16-3-000.

Applicants: Southwest Power Pool, Inc.

Description: Southwest Power Pool, Inc.'s Informational Filing to Notify the Commission of Implementation of Year-Four Reallocation of Revenue Requirements Pursuant to Attachments J and O for the Balanced Portfolio.

Filed Date: 10/1/15.

Accession Number: 20151001-5136.

Comments Due: 5 p.m. ET 10/22/15.

Docket Numbers: ER16-11-000.

Applicants: Sierra Pacific Power Company.

Description: § 205(d) Rate Filing: Rate Schedule No. 27—Annual BPA-GTA Update 2015 to be effective 10/31/2015.

Filed Date: 10/1/15.

Accession Number: 20151001-5407.

Comments Due: 5 p.m. ET 10/22/15.

Docket Numbers: ER16-12-000.

Applicants: LRI Renewable Energy LLC.

Description: § 205(d) Rate Filing: Emerald City Amendment to LRI to be effective 10/2/2015.

Filed Date: 10/2/15.

Accession Number: 20151002-5083.

Comments Due: 5 p.m. ET 10/23/15.

Docket Numbers: ER16-13-000.

Applicants: Southwest Power Pool, Inc.

Description: § 205(d) Rate Filing: Revisions to Attach AE Regarding Annual Auction Revenue Right Allocation to be effective 1/28/2016.

Filed Date: 10/2/15.

Accession Number: 20151002-5106.

Comments Due: 5 p.m. ET 10/23/15.

Docket Numbers: ER16-14-000.

Applicants: Midcontinent Independent System Operator, Inc.

Description: § 205(d) Rate Filing: 2015-10-02_MISO-SPP JOA Section 8.1.2 Amendment M2M to be effective 3/1/2015.

Filed Date: 10/2/15.

Accession Number: 20151002-5124.

Comments Due: 5 p.m. ET 10/23/15.

Docket Numbers: ER16-15-000.

Applicants: R.E. Ginna Nuclear Power Plant, LLC.

Description: § 205(d) Rate Filing: 2015 normal Oct to be effective 10/2/2015.

Filed Date: 10/2/15.

Accession Number: 20151002-5125.

Comments Due: 5 p.m. ET 10/23/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 2, 2015.
Nathaniel J. Davis, Sr.,
Deputy Secretary.

[FR Doc. 2015-25616 Filed 10-7-15; 8:45 am]

BILLING CODE 6717-01-P